DEPARTMENT OF COMMERCE

Foreign-Trade Zones Board

[S-163-2020]

Foreign-Trade Zone 168—Dallas, Texas; Application for Subzone; Sager Electronics; Carrollton, Texas

An application has been submitted to the Foreign-Trade Zones (FTZ) Board by the Metroplex International Trade Development Corporation, grantee of FTZ 168, requesting subzone status for the facility of Sager Electronics, located in Carrollton, Texas. The application was submitted pursuant to the provisions of the Foreign-Trade Zones Act, as amended (19 U.S.C. 81a-81u), and the regulations of the FTZ Board (15 CFR part 400). It was formally docketed on September 17, 2020.

The proposed subzone (1.46 acres) is located at 2940 Eisenhower Street, Suite 100, Carrollton (Denton County), Texas. No authorization for production activity has been requested at this time. The proposed subzone would be subject to the existing activation limit of FTZ 168.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is November 3, 2020. Rebuttal comments in response to material submitted during the foregoing period may be submitted during the subsequent 15-day period to November 18, 2020.

A copy of the application will be available for public inspection in the “Reading Room” section of the FTZ Board's website, which is accessible via www.trade.gov/ftz.

For further information, contact Camille Evans at Camille.Evans@trade.gov or (202) 482-2350.

Dated: September 18, 2020.
Andrew McGilvray,
Executive Secretary.

[FR Doc. 2020-21038 Filed 9-23-20; 8:45 am]

BILLING CODE 3510-DS-P